OFFICE OF MANAGEMENT AND BUDGET

OMB Request for Information (RFI)

AGENCY: Office of Management and Budget (OMB), Executive Office of the President.

ACTION: Notice of request for information (RFI).

SUMMARY: The Office of Management and Budget (OMB) will be proposing revisions to title 2 of the Code of Federal Regulation (CFR), subtitle A, chapters I and II, in 2023. This RFI will support this effort by soliciting feedback from the general public on 2 CFR, which will be considered during the process of drafting updates. OMB anticipates publishing the final update to 2 CFR by December 2023. The first update was published on August 13, 2020.

DATES: Interested persons and organizations are invited to submit comments on or before March 13, 2023.

ADDRESSES: You should submit comments via the Federal eRulemaking Portal at https://www.regulations.gov/. Follow the instructions for submitting comments. All public comments received are subject to the Freedom of Information Act and will be posted in their entirety at https://www.regulations.gov/, including any personal and business confidential information provided. Do not include any information you would not like to be made publicly available.

Instructions: Response to this RFI is voluntary. Respondents may answer as many or as few questions as they wish. Each individual or institution is requested to submit only one response. Electronic responses must be provided as attachments to an email rather than a link. Please identify your answers by responding to a specific question or topic if possible. Comments consisting of no more than seven pages or 2,500 words are requested; longer responses may not be considered. Responses should include the name of the person(s) or organization(s) filing the response. Responses containing references, studies, research, and other empirical data that are not widely published should include copies of or electronic links to the referenced materials. Please do not submit copyrighted material. Responses containing profanity, vulgarity, threats, or other inappropriate language or content will not be considered. This RFI is not accepting applications for financial assistance or employment opportunities.

Any information obtained from this RFI is intended to be used by the Government on a non-attribution basis for drafting updated guidance for Federal financial assistance. OMB will not respond to individual submissions. A response to this RFI will not be viewed as a binding commitment to accept any proposals put forward.

FOR FURTHER INFORMATION CONTACT: Steven Mackey, Policy Analyst at the OMB Office of Federal Financial Management at MBX.OMB.OFFM.Grants@OMB.eop.gov.

SUPPLEMENTARY INFORMATION:

2 CFR, subtitle A, consists of two main chapters of OMB guidance: chapter 1 and chapter 2. Chapter I contains parts 25, 170, 175, 176, 180, 182, and 183; and chapter 2 contains part 200: Uniform Administrative Requirements, Cost Principles, and Audit Requirements for Federal Awards. Certain parts of Chapter 1 reflect statutory requirements with limited additional guidance and will not be updated. The following are examples of parts in Subtitle A that may be under consideration for the next revision:

• Part 25: Universal Identifier and Systems for Award Managements

• Part 170: Reporting Subaward and Executive Compensation Information

• Part 200: Uniform Administrative Requirements, Cost Principles, and Audit Requirements for Federal Awards

In this notice, OMB is providing an opportunity for members of the public to provide comments on 2 CFR. Feedback provided should support the following goals of OMB's forthcoming revision:

(1) revise guidance to incorporate statutory requirements and administration priorities;

(2) revise guidance to reduce agency and recipient burden;

(3) clarify guidance by addressing sections that recipients or agencies have interpreted in different ways; and

(4) clarify guidance by rewriting applicable sections in plain English, improving flow, and addressing inconsistent use of terms. The revision will not represent a complete revision or restructuring of 2 CFR. OMB will strive to maintain the same overall structure of 2 CFR, including section numbers.

OMB seeks responses to one, some, or all of the following questions. Please note the current version of 2 CRF is located at https://www.ecfr/current/title-2. Where possible, include specific examples of how you or your organization is or would be impacted negatively or positively by specific sections of 2 CFR and, if applicable, provide references to any reports, articles, or other source material supporting your position. If you believe the current language should be revised, suggest an alternative (which may include not providing guidance at all) and include an explanation, analysis, or both, of how the alternative might meet the same objective or be more effective. Comments on the economic effects including quantitative and qualitative data are especially helpful.

1. What specific section(s) of 2 CFR would benefit from revision in order to support the goal of reducing administrative burden?

2. What specific section(s) of 2 CFR have been interpreted differently by Federal agencies and recipients leading to inconsistent implementation of Federal financial assistance?

3. What specific section(s) of 2 CFR would benefit from improved clarity or more precise language?

4. What specific suggestions do you have for otherwise improving the language of 2 CFR (e.g., consistent use of terms, other suggested edits)?

Authority: 31 U.S.C. 503; Pub. L. 109-282; Pub. L. 113-101.

Deidre A. Harrison,
Acting Controller, Office of Federal Financial Management.

[FR Doc. 2023-02158 Filed 2-8-23; 8:45 am]

BILLING CODE 3110-01-P